ENVIRONMENTAL PROTECTION AGENCY

[FRL-7102-7]

Agency Information Collection Activities: Submission for OMB Review; Comment Request; Request for Applications for Critical Use Exemptions From the Phaseout of Methyl Bromide

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Request for Applications for Critical Use Exemptions from the Phaseout of Methyl Bromide; ICR# 2031.01. The ICR describes the nature of the information collection and its expected burden and cost; where appropriate, it includes the actual data collection instrument.

DATES: Comments must be submitted on or before December 13, 2001.

ADDRESSES: Send comments, referencing EPA ICR No. 2031.01, to the following addresses: Susan Auby, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Susan Auby by phone at (202) 260-4901, by e-mail at Auby.Susan@epa.gov or download off the internet at www.epa.gov/icr and refer to EPA ICR No. 2031.01. For technical questions about the ICR contact Amber Moreen at EPA by phone at (202) 564-9295.

SUPPLEMENTARY INFORMATION: Title: Request for Applications for Critical Use Exemptions from the Phaseout of Methyl Bromide (EPA ICR No. 2031.01). This is a new collection.

Abstract: With this Information Collection Request (ICR), EPA's Office of Air and Radiation and Office of Prevention, Pesticides and Toxic Substances are preparing to request applications for critical use exemptions from the phaseout of methyl bromide under the Clean Air Act (CAA). This ICR is one piece of the ongoing development of the voluntary application process. Entities applying for these exemptions will be asked to submit to EPA applications with necessary data to evaluate the need for a critical use exemption. Necessary data will include: information on past methyl bromide use; consideration of alternatives, including steps taken to find and implement alternatives, steps planned to find and implement alternatives, data relating to the technical feasibility of currently available alternatives, and data relating to the economic feasibility of currently available alternatives; and, additional information. This information collection is conducted to meet U.S. obligations under Article 2H of the Montreal Protocol on Substances that Deplete the Ozone Layer (Protocol) and to implement section 604(d)(6) of the CAA, added by section 764 of the 1999 Omnibus Consolidated and Emergency Supplemental Appropriations Act (Pub. L. No. 105-277; October 21, 1998).

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on 6/27/01 (66FR124); no public comments were received.

Burden Statement: The annual public reporting and record keeping burden for this collection of information is estimated to average 108 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Respondents may include growers who use methyl bromide, applicators of methyl bromide, fumigators who use methyl bromide, companies associated with the storage of commodities that are fumigated with methyl bromide, and organizations/consortiums/associations of methyl bromide users.

Estimated Number of Respondents: 495 (largely composed of growers groups representing 50-100 individual growers).

Frequency of Response: Annual.

Estimated Total Annual Hour Burden: 229,050 hours.

Estimated Total Annualized Capital, O&M Cost Burden: $604,071.

Send comments on the Agency's need for this information, the accuracy of the provided burden estimates, and any suggested methods for minimizing respondent burden, including through the use of automated collection techniques to the addresses listed above. Please refer to EPA ICR No. 2031.01 in any correspondence.

Dated: November 1, 2001.
Oscar Morales,
Director, Collection Strategies Division.

[FR Doc. 01-28347 Filed 11-9-01; 8:45 am]

BILLING CODE 6960-50-P